DEPARTMENT OF STATE

[Public Notice: 11574]

Certification of Mexico

ACTION: Notice of country certification.

SUMMARY: On October 21, 2021, the Department of State certified to Congress that Mexico's turtle excluder device (TED) program was determined to again be comparable to the United States program. Wild-caught shrimp harvested in Mexico is again eligible to enter the United States in accordance with Section 609(b)(2)(A) and (B).

FOR FURTHER INFORMATION CONTACT: Jared Milton, Section 609 Program Manager, Office of Marine Conservation, Bureau of Oceans and International Environmental and Scientific Affairs, Department of State, 2201 C Street NW, Washington, DC 20520-2758; telephone: (202) 647-3263; email: DS2031@state.gov.

SUPPLEMENTARY INFORMATION: Section 609 of Public Law 101-162 (“Sec. 609”) prohibits imports of wild-caught shrimp or products from shrimp harvested with commercial fishing technology unless the President certifies to the Congress by May 1, 1991, and annually thereafter, that either: (1) The harvesting nation has adopted a regulatory program governing the incidental taking of relevant species of sea turtles in the course of commercial shrimp harvesting that is comparable to that of the United States and that the average rate of that incidental taking by the vessels of the harvesting nation is comparable to the average rate of incidental taking of sea turtles by United States vessels in the course of such harvesting; or (2) the particular fishing environment of the harvesting nation does not pose a threat of the incidental taking of sea turtles in the course of shrimp harvesting. The President has delegated the authority to make this certification to the Secretary of State (“Secretary”) who further delegated the authority within the Department of State (“Department”). The Revised Guidelines for the Implementation of Sec. 609 were published in the Federal Register on July 8, 1999, at 64 FR 36946.

The Department suspended the certification of Mexico, effective May 1, 2021, because its sea turtle protection program was no longer comparable to that of the United States. The Government of Mexico subsequently implemented a plan of action to strengthen sea turtle conservation in its shrimp trawl fisheries, resulting in significantly improved use of turtle excluder devices by its fishing industry, as verified by a team of representatives from the Department and the National Marine Fisheries Service. The Department has now certified Mexico under Sec. 609(b)(2)(A) and (B).

The Department has communicated this decision under Sec. 609 to the Office of Trade of U.S. Customs and Border Protection.

Constance Arvis,
Deputy Assistant Secretary for Oceans, Fisheries, and Polar Affairs, Department of State.

[FR Doc. 2021-24210 Filed 11-5-21; 8:45 am]

BILLING CODE 4710-09-P